DEPARTMENT OF DEFENSE

Office of the Secretary

[Docket ID: DoD-2022-OS-0098]

Submission for OMB Review; Comment Request

AGENCY: Office of the Under Secretary of Defense for Personnel and Readiness (OUSD(P&R)), Department of Defense (DoD).

ACTION: 30-day information collection notice.

SUMMARY: The DoD has submitted to the Office of Management and Budget (OMB) for clearance the following proposal for collection of information under the provisions of the Paperwork Reduction Act.

DATES: Consideration will be given to all comments received by February 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Evaluation of the DoD SPARX Knowledge Training Program; OMB Control Number 0704-ESKP.

Type of Request: New.

Number of Respondents: 820.

Responses per Respondent: 5.6.

Annual Responses: 4,590.

Average Burden per Response: 17.81 minutes.

Annual Burden Hours: 1362.4.

Needs and Uses: In a memo dated 26 February 2021, the Secretary of Defense required the Military Departments to ensure that at least half of their identified violence prevention workforce receives initial training by 31 December 2021, with the entire workforce trained by 30 June 2022. To meet this need, the Office of Force Resiliency's Violence Prevention Cell has developed an integrated violence prevention curriculum, titled DoD SPARX Knowledge, to establish a common base of knowledge within the prevention workforce. The purpose of this information collection is to evaluate the effectiveness of the DoD SPARX Knowledge training program and make improvements to the program, as needed. The curriculum is appropriate for Service Members and DoD civilians serving in violence prevention roles and is broken into modules that align with the prevention process of the Prevention Plan of Action and the data-informed actions of the Integrated Prevention Policy. The overarching goal of the DoD SPARX Knowledge training is to equip the prevention workforce with the appropriate knowledge, skills, and resources to select, implement, and evaluate research-based prevention activities.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 6, 2023.
Aaron T. Siegel,
Alternate OSD Federal Register Liaison Officer, Department of Defense.

[FR Doc. 2023-00449 Filed 1-11-23; 8:45 am]

BILLING CODE 5001-06-P